DEPARTMENT OF HEALTH AND HUMAN SERVICES

Centers for Disease Control and Prevention

Advisory Council for the Elimination of Tuberculosis (ACET); Correction

Notice is hereby given of a change in the meeting of the Advisory Council for the Elimination of Tuberculosis (ACET); April 17, 2018, 10:00 a.m. to 3:30 p.m., EDT which was published in the Federal Register on March 6, 2018 Volume 83, Number 44, pages 9520.

The time for April 17, 2018, 8:30 a.m. to 3:30 p.m., EDT should read as follows: 10:00 a.m. to 3:30 p.m., EDT.

FOR FURTHER INFORMATION CONTACT: Margie Scott-Cseh, Committee Management Specialist, CDC, 1600 Clifton Road NE, Mailstop: E-07, Atlanta, Georgia 30329, telephone (404) 639-8317; zkr7@cdc.gov.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2018-06059 Filed 3-26-18; 8:45 am]

BILLING CODE 4163-18-P